NATIONAL TRANSPORTATION SAFETY BOARD

Agenda

Time and Place: 9:30 a.m., Tuesday, June 22, 2004.

Place: NTSB Conference Center, 429 L'Enfant Plaza SW., Washington, DC 20594.

Status: The two items are Open to the Public.

Matters to be Considered:

7643 Highway Accident Report—Motorcoach Run-off-the-Road and Rollover Accident, Victor, New York, June 23, 2002.

7564A Hazardous Materials Accident Report—Nurse Tank Failure With Release of Hazardous Materials near Calamus, Iowa, April 15, 2003.

News Media Contact: Telephone: (202) 314-6100.

Individuals requesting specific accommodations should contact Ms. Carolyn Dargan at (202) 314-6305 by Friday, June 18, 2004.

FOR FURTHER INFORMATION CONTACT: Vicky D'Onofrio, (202) 314-6410.

Dated: June 10, 2004.
Vicky D'Onofrio,
Federal Register Liaison Officer.

[FR Doc. 04-13629 Filed 6-10-04; 4:22 pm]

BILLING CODE 7533-01-M